DEPARTMENT OF VETERANS AFFAIRS

Privacy Act of 1974; New System of Records—Automated Electronic Document Management System (EDMS)—VA (92VA045)

AGENCY: Department of Veterans Affairs.

ACTION: Notice, New System of Records.

SUMMARY: The Privacy Act of 1974 (5 U.S.C. 522a(e)(4)) requires that all agencies publish in the Federal Register a notice of the existence and character of their systems of records. Notice is hereby given that the Department of Veterans Affairs (VA) is adding a new system of records entitled “Electronic Document Management System (EDMS)—VA (92VA045).”

EDMS is used to process replies to correspondence and other inquiries (received via hard copy, e-mail, fax, Internet, telephone, or in person) that originate from Members of Congress; other Federal agencies; state, local and tribal governments; Foreign governments; veterans service organizations; representatives of private or commercial entities; veterans and their beneficiaries; other private citizens; and VA employees. EDMS is also used for some categories of correspondence and records internal to VA. EDMS does not duplicate any other system of records within the Government.

Records maintained in this system of records in electronic and paper form vary, depending on the nature of the materials received, background information compiled, and/or response sent. Each may include the names, social security numbers, mailing addresses, telephone numbers and other personal identifiers routinely required to identify a correspondent or subject. Other record items maintained may include personal facts about medical, financial, or memorial benefits related to the correspondent, veteran or beneficiary. Internal VA records may include (but are not limited to) VA administrative, financial and personnel information.

Release of information from these records will only be made in accordance with the provisions of the Privacy Act of 1974, for investigatory, judicial and administrative uses. This includes disclosure to third parties acting on a claimant's behalf; to law enforcement agencies when records in the system pertain to a violation or possible violation of law; to answer congressional inquiries initiated by individuals; to the National Archives and Records Administration during records management inspections; to requests for statistical data to be disclosed to other VA facilities; Members of Congress; other Federal agencies; state, local and tribal governments for statistical analyses. VA has determined that release of information for these purposes is a necessary and proper use of information in this system of records and that specific routine uses for transfer of this information are appropriate.

DATES AND ADDRESSES: Interested persons are invited to submit written comments, suggestions and or objections regarding the proposed system of records to the Director, Office of Regulations Management (02D), Department of Veterans Affairs, 810 Vermont Ave., NW, Room 1154, Washington, DC 20420. All relevant material received before June 1, 2000 will be considered. All written comments received will be available for pubic inspection at the above address in the Office of Regulations Management, Room 1158, between 8 a.m. and 4:30 p.m. only, Monday through Friday (except Federal holidays).

If no public comment is received in the 30-day review period allowed, or unless otherwise published in the Federal Register by VA, routine use statements and all other provisions included herein are effective June 1, 2000.

SUPPLEMENTARY INFORMATION: A “Report of Intention to Publish a Federal Register Notice of a New System of Records” and an advance copy of the new system notice have been provided to the chairman of the House Committee on Government Reform and the Senate Committee on Governmental Affairs, and the Director, Office of Management and Budget (OMB), as required by the provisions of 5 U.S.C. 552a, as amended (Privacy Act), and guidance issued by OMB (50 FR 52730), December 24, 1985, and revisions thereto, published on (58 FR 36068), July 2, 1993; (59 FR 37906), July 25, 1994; and (61 FR 6428), February 20, 1996.

For further information, contact the Associate Deputy Assistant Secretary for Policy and Program Assistance (045A), Department of Veterans Affairs, 810 Vermont Ave., NW, Washington, DC 20420—(202) 273-8127.

Approved: April 24, 2000.
Togo D. West, Jr.,
Secretary of Veterans Affairs.

92VA045

System Name:

Electronic Document Management System (EDMS)—VA.

System Location:

Automated records are maintained within the Electronic Document Management System (EDMS) at the Department of Veterans Affairs Central Office, 810 Vermont Avenue, NW, Washington, DC 20420. Paper correspondence records are maintained in file cabinets under the control of the office responsible for processing the correspondence item.

Categories of Individuals Covered by the System:

Members of Congress and their staff, officials and representatives of other Federal agencies, state, local and tribal governments, Foreign governments, and veterans service organizations; representatives of private or commercial entities; veterans and their beneficiaries; other private citizens; and VA employees.

Categories of Records in the System:

Records are maintained in electronic and paper form depending on the nature of the materials received, background information compiled, and/or response sent. Each may include the names, social security numbers, mailing addresses, telephone numbers, and other personal identifiers routinely required to identify a correspondent or subject. Other record items maintained may include personal facts about medical, financial, or memorial benefits related to the correspondent, veteran or beneficiary. Internal VA records may include (but are not limited to) VA administrative, financial and personnel information. Records may include scanned document, letter, e-mail, fax, Internet document, tracking sheet, note, documentation of a telephone call and/or of a meeting with an individual.

Authority for Maintenance of the System:

Title 38, United States Code, 501(c).

Purposes:

EDMS is used to process replies to correspondence and other inquiries that originate from members of Congress; other Federal agencies; state, local, and tribal governments; Foreign governments; veterans service organizations; representatives of private or commercial entities; veterans and their beneficiaries; private citizens; and VA employees. EDMS is also used for some categories of correspondence and records internal to VA.

Routine Uses of Records Maintained in the System, Including Categories of Users and the Purposes of Use:

1. VA may disclose the records in this system, except for the name and address of a veteran, that it determines are relevant to a suspected violation or reasonably imminent violation of law, whether civil, criminal or regulatory in nature, and whether arising by general or program statute or by regulation, rule or order issued pursuant thereto, to a Federal, state, local, tribal or foreign agency charged with the responsibility of investigating or prosecuting such violation, or charged with enforcing or implementing the statute, regulation or order issued pursuant thereto.

2. VA may disclose the name and address of a veteran that it determines are relevant to a suspected violation or reasonably imminent violation of law, whether civil, criminal or regulatory in nature, and whether arising by general or program statute or by regulation, rule or order issued pursuant thereto, to a Federal agency charged with the responsibility of investigating or prosecuting such violation, or charged with enforcing or implementing the statute, regulation or order issued pursuant thereto.

3. VA may disclose the records in proceedings before a court or adjudicative body before which VA is authorized to appear when VA, a VA official or employee, the United States, or an individual or entity for whom the United States is providing representation is a party to litigation or has an interest in such litigation, and VA determines that the use of such records is relevant and necessary to the litigation, provided, however, that in each case, the agency determines that disclosure of the records is a use of the information contained in the records that is compatible with the purpose for which the records were collected.

4. Information may be provided to Members of Congress or staff persons in response to an inquiry from an individual to Members of Congress, made at the request of the individual and concerning that individual's VA records. Such information will be provided as authorized by law.

5. Information may be provided to a third party acting on an individual's behalf, such as agencies of Federal, state, local and tribal governments, Foreign governments; veterans service organizations; representatives of private or commercial entities in response to a request made by the individual to the third party and concerning that individual's VA records. Such information will be provided as authorized by law.

6. VA may compile statistical information using records contained in EDMS, except for identification information of a veteran such as name, address or social security number. This information may be disclosed to other VA facilities, Members of Congress; other Federal agencies; state, local and tribal governments. VA will determine that the use of such statistical information is relevant and necessary, that disclosure of the information contained in the records is compatible with the purpose for which the records were collected.

7. Disclosure may be made during reviews by the National Archives and Records Administration in records management inspections conducted under authority of 44 U.S.C. 2904 and 2906.

8. To disclose relevant information to the Department of Justice and United States Attorneys in defense or prosecution of litigation involving the United States.

POLICIES AND PRACTICES FOR STORING, RETRIEVING, ACCESSING, RETAINING AND DISPOSING OF RECORDS IN THIS SYSTEM:

STORAGE:

EDMS employs rotational magnetic disk and Write Once-Read Many (WORM) optical disk media for storage of electronic records. Electronic records are regularly copied and moved to a separate physical location to assure a fail-safe records recovery capability. Paper records are maintained in file cabinets under the control of the office responsible for processing the record.

RETRIEVABILITY:

Key identification information is established for each record in EDMS. This information is in relation to the nature of materials received, background information compiled and/or response sent. Retrieval is by searching for specific key information (e.g., record identification number, author, correspondent name, subject matter, initial date record established, etc.).

SAFEGUARDS:

Access to EDMS is via personal computer terminal. Necessary and sufficient application security functionality (i.e., unique customer user identification code/password and user-specific administrative control levels) are used to limit access to authorized VA staff, and to limit operations they may perform. To obtain access to EDMS' electronic records, VA staff must comply with the following procedures:

1. VA staff may not self-register in the system for access. A request for a user identification code and password is reviewed and approved by the designated EDMS Office Coordinator, and entered into the system by the system administrator. Approved staff are issued a user identification code and a temporary password, which they are required to change when they first sign onto the system.

2. Electronic records are protected by classifications, specified when the records are created. The owner of the record or authorized security personnel are the only ones who can modify the classification. A user's rights to inspect or modify records will depend on the user's assigned administrative control level as compared to the record's classification. The EDMS System Administrator manages the records classifications and user administration control levels.

RETENTION AND DISPOSAL:

Records will be maintained and disposed of in accordance with the records disposal authority approved by the Archivist of the United States, the National Archives and Records Administration. Paper records will be destroyed by shredding or other appropriate means for destroying sensitive information. Automated storage records are retained and destroyed in accordance with disposition authorization approved by the Archivist of the United States.

SYSTEM MANAGER(S) AND ADDRESS:

Associate Deputy Assistant Secretary for Policy and Program Assistance (045A), Department of Veterans Affairs, 810 Vermont Ave., NW, Washington, DC 20420. The phone number is (202) 273-8127.

NOTIFICATION PROCEDURE:

An individual who wishes to determine whether a record is being maintained in this system under his or her name or other personal identifier or who wants to determine the contents of such records should submit a written request to the System Manager at the address above.

RECORD ACCESS PROCEDURES:

An individual who seeks access or wishes to contest records maintained under his or her name or other personal identifier may write, call or visit the System Manager.

CONTESTING RECORD PROCEDURES:

See record access procedures above.

RECORD SOURCE CATEGORIES:

Records in this system are derived from processing replies to correspondence, and other inquiries that originate from Members of Congress; other Federal agencies; state, local and tribal governments; Foreign governments, veterans service organizations; representatives of private or commercial entities; veterans and their beneficiaries; other private citizens; and VA employees. Records maintained include material received, background information compiled and/or response sent. EDMS is also used for some categories of correspondence and records internal to VA. Internal VA records may include (but are not limited to) VA administrative, financial and personnel information.

[FR Doc. 00-10911 Filed 5-1-00; 8:45 am]

BILLING CODE 8320-01-M